DEPARTMENT OF JUSTICE

Notice of Lodging of Consent Decree Pursuant to the Clean Air Act

Notice is hereby given that on January 14, 2008, a proposed Consent Decree, in United States v. S.H. Bell Co., Civil No. 4:08-cv-96 (N.D. Ohio), was lodged with the United States District Court for the Northern District of Ohio. In this action, the United States sought civil penalties against S.H. Bell for violations of the Clean Air Act (``CAA''), 42 U.S.C. 7401-7671q, regulations implementing the CAA, the Ohio State Implementation Plan (``Ohio SIP'') and the Pennsylvania State Implementation Plan (``Pennsylvania SIP'') at two terminals of S.H. Bell's facility located at 2217 Michigan Avenue (Stateline Terminal) and 1 Saint George Street East (Little England Terminal), Liverpool, Ohio. The United States alleged that S.H. Bell failed to apply for appropriate permits under the CAA, the Ohio SIP and the Pennsylvania SIP for stationary sources at its two terminals; failed to obtain a permit to install (``PTI''), and timely comply with control requirements of a valid PTI, as required by the Ohio SIP at certain stationary sources at its East Liverpool facility; and violated the General Provisions of the New Source Performance Standards (``NSPS'') set forth at 40 CFR 60.7 and 60.8 for nonmetallic mineral processing plants.

Under the Consent Decree, S.H. Bell shall: (1) Pay a civil penalty of $50,000; (2) comply with all applicable emissions limitations and testing requirements in its existing source operating permits and any amendments; (3) cooperate with Ohio Environmental Protection Agency (``Ohio EPA'') and Pennsylvania Department of Environmental Protection (``Pennsylvania DEP'') officials in the processing of S.H. Bell's filed applications for appropriate source permits at its East Liverpool facility; (4) certify that it does not currently process nonmetallic minerals at its East Liverpool facility, and in the event that it resumes such processing, comply with applicable provisions of NSPS; and, implement two Supplemental Environmental Projects valued at $386,592, consisting of a Truck Loadout Shed and Road Paving Projects at its East Liverpool facility.

The Department of Justice will receive, for a period of thirty (30) days from the date of this publication, comments relating to the proposed Consent Decree. Comments should be addressed to the Assistant Attorney General, Environment and Natural Resources Division, and either emailed to pubcomment-ees.enrd@usdoj.gov or mailed to United States Department of Justice, P.O. Box 7611, Washington, DC 20044-7611, and should refer to United States v. S.H. Bell Co., Civil No. 4:08-cv-96 (N.D. Ohio), and DOJ Reference No. 90-5-2-1-07823.

The proposed Consent Decree may be examined at: (1) The Office of the United States Attorney for the Northern District of Ohio, 801 West Superior Avenue, Suite 400, Cleveland, OH, 44113 (216-622-3600); and (2) the United States Environmental Protection Agency (Region 5), 77 West Jackson Blvd., Chicago, IL 60604-3507 (contact: John C. Matson (312-886-2243).

During the public comment period, the proposed Consent Decree may also be examined on the following U.S. Department of Justice Web site, http://www.usdoj.gov/enrd/Consent_Decrees.html. A copy of the proposed Consent Decree may also be obtained by mail from the Consent Decree Library, U.S. Department of Justice, P.O. Box 7611, Washington, DC 20044-7611 or by faxing or e-mailing a request to Tonia Fleetwood (tonia.fleetwood@usdoj.gov), fax no. (202) 514-0097, phone confirmation no. (202) 514-1547. In requesting a copy from the Consent Decree Library, please refer to the referenced case and DOJ Reference Number and enclose a check in the amount of $10 for the Consent Decree only (40 pages, at 25 cents per page reproduction costs), or $19.25 for the Consent Decree and Appendix A (77 pages), made payable to the U.S. Treasury or, if by e-mail or fax, forward a check in that amount to the Consent Decree Library at the stated address.

William D. Brighton,
Assistant Chief, Environmental Enforcement Section, Environment and Natural Resources Division.

[FR Doc. 08-271 Filed 1-24-08: 8:45 am]

BILLING CODE 4410-15-M